DEPARTMENT OF ENERGY

Proposed New Agency Information Collection

AGENCY: U.S. Energy Information Administration (EIA), U.S. Department of Energy.

ACTION: Notice and request for OMB review and comment.

SUMMARY: Under the provisions of the Paperwork Reduction Act of 1995, EIA has submitted a request to the Office of OMB for a 3-year clearance of a new data collection survey—the EIA-63C, Densified Biomass Fuel Report.

DATES: Comments regarding this collection must be received on or before July 6, 2015. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to the:

DOE Desk Officer, Office of Information and Regulatory Affairs, Office of Management and Budget, New Executive Office Building, Room 10102, 735 17th Street NW., Washington, DC 20503, Chad_S_Whiteman@omb.eop.gov

And to

Rebecca Peterson, U.S. Energy Information Administration, Mail Stop EI-23, Forrestal Building, 1000 Independence Avenue SW., Washington, DC 20585, EIA-63C@eia.gov.

FOR FURTHER INFORMATION CONTACT: Direct any requests for additional information or copies of the information collection instrument and instructions to Rebecca Peterson at EIA-63C@eia.gov, or at 202-586-4509. The collection instrument and instructions are also available on the Internet at: http://www.eia.gov/survey/form/eia_63c/proposed.

SUPPLEMENTARY INFORMATION: This information collection request contains:

(1) OMB No.: New.

(2) Information Collection Request Title: EIA-63C, Densified Biomass Fuels Report.

(3) Type of Request: New.

(4) Purpose: Production and consumption of densified biomass fuel is rising in the United States. One of the main reasons is the increasing use of biomass in lieu of fuel oil for residential heating. In addition, the United States is exporting rapidly rising amounts to the European community where greenhouse gas reduction programs are driving conversion from coal to biomass for electric power generation. The data collected on the Form EIA-63C will be used to estimate densified biomass fuel consumption in the United States as well as production, sales, and inventory at state, regional, and national levels. A summary of the data will be published on the EIA Web site and in various EIA publications, including the Monthly Energy Review. No company specific data will be released. The survey will be filed by operators of densified biomass fuel manufacturing facilities in the United States that have 10,000 tons or more of production capacity. An initial survey will be required from all U.S. densified biomass fuel manufacturers (approximately 200) to determine their production capacity, the amount produced in the past year, and the type(s) of pellets produced. The data gathered from this initial collection will be used to determine the official survey frame and frequency. For planning purposes, EIA is estimating that 150 respondents will be filing monthly.

(5) Annual Estimated Number of Respondents: Once the initial survey is completed, EIA is estimating the number of respondents to be approximately 150.

(6) Annual Estimated Number of Total Responses: 1,800 (150 respondents × 12 months).

(7) Annual Estimated Number of Burden Hours: 1,800 (150 respondents × 12 months × 1 hour for each response.

(8) Annual Estimated Reporting and Recordkeeping Cost Burden: EIA estimates that there are no capital and start-up costs associated with this data collection. The information is maintained in the normal course of business. The cost of burden hours to the respondents is estimated to be $129,546 (1800 burden hours times the current hourly rate of $71.97). Therefore, other than the cost of burden hours, EIA estimates that there are no additional costs for generating, maintaining, and providing the information.

Statutory Authority: Section 13(b) of the Federal Energy Administration Act of 1974, Pub. L. 93-275, codified as 15 U.S.C. 772(b).

Issued in Washington, DC, on May 29, 2015.
Nanda Srinivasan,
Director, Office of Survey Development and Statistical Integration, U.S. Energy Information Administration.

[FR Doc. 2015-13716 Filed 6-3-15; 8:45 am]

BILLING CODE 6450-01-P